DEPARTMENT OF HEALTH AND HUMAN SERVICES

Centers for Medicare and Medicaid Services

[Document Identifier: CMS-R-142]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection; Title of Information Collection: Information Collection Requirements Contained in BPD-393, Examination and Treatment for Emergency Medical Conditions and Women in Labor and HCFA-1005-IFC, PPS for Hospital Outpatient Services and Supporting Regulations Contained in 42 CFR 482.12, 488.18, 489.20 and 489.24; Document No.: CMS-R-142 (OMB# 0938-0667); Use: The Information Collection Requirements contained in BPD-393, Examination and Treatment for Emergency Medical Conditions and Women in Labor and HCFA-1005-IFC, contains requirements for hospitals to prevent them from inappropriately transferring individuals with emergency medical conditions, as mandated by Congress. CMS uses this information to help assure compliance with this mandate and protect the public. This information is not contained elsewhere in regulations. Frequency: On occasion; Affected Public: Business or other for-profit, Individuals or households, not-for-profit institutions, Federal Government, and State, Local or Tribal Government; Number of Respondents: 5,600; Total Annual Responses: 5,600; Total Annual Hours Requested: 1.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Dawn Willinghan, CMS-R-142, Room N2-14-26, 7500 Security Boulevard, Baltimore, Maryland 21244-1850.

Dated: June 12, 2002.
John P. Burke III,
Paperwork Reduction Act Team Leader, CMS Reports Clearance Officer, CMS Office of Information Services, Security and Standards Group, Division of CMS Enterprise Standards.

[FR Doc. 02-15531 Filed 6-19-02; 8:45 am]

BILLING CODE 4120-03-P